DEPARTMENT OF TRANSPORTATION

Office of the Secretary

Applications of Universal Jet Aviation, Inc. for Certificate Authority

AGENCY: Department of Transportation.

ACTION: Notice of Order to Show Cause (Order 2012-1-11); Dockets DOT-OST-2011-0150 and DOT-OST-2011-0151.

SUMMARY: The Department of Transportation is directing all interested persons to show cause why it should not issue orders finding Universal Jet Aviation, Inc., fit, willing, and able, and to provide interstate and foreign charter air transportation of persons, property and mail, using one large aircraft.

DATES: Persons wishing to file objections should do so no later than January 31, 2012.

ADDRESSES: Objections and answers to objections should be filed in Dockets DOT-OST-2011-0150 and DOT-OST-2011-0151 and addressed to U.S. Department of Transportation, Docket Operations, (M-30, Room W12-140), 1200 New Jersey Avenue, SE., West Building Ground Floor, Washington, DC 20590, and should be served upon the parties listed in Attachment A to the order.

FOR FURTHER INFORMATION CONTACT: Catherine J. O'Toole, Air Carrier Fitness Division (X-56, Room W86-489), U.S. Department of Transportation, 1200 New Jersey Avenue SE., Washington, DC 20590, (202) 366-9721.

Dated: January 13, 2012.
Robert A. Letteney,
Deputy Assistant Secretary for Aviation and International Affairs.

[FR Doc. 2012-1201 Filed 1-20-12; 8:45 am]

BILLING CODE P